DEPARTMENT OF DEFENSE

Notice of Inent (NOI) To Prepare an Environmental Impact Statement (EIS) for the Oro Verde Solar Project at Edwards Air Force Base and County of Kern, CA

AGENCY: Department of the Air Force, DOD.

ACTION: Notice of Intent.

SUMMARY: The Air Force is issuing this notice to advise the public of its intent to prepare a joint Environmental Impact Statement (EIS) and Environmental Impact Report (EIR) with the County of Kern, California to evaluate potential environmental impacts associated with the development of the Oro Verde Solar Project (OVSP) on Edwards AFB. The OVSP is a solar photovoltaic (PV) facility that involves the lease of non-excess Air Force lands to a private energy developer, SunEdison LLC, who will pursue the development of up to 450 Megawatts of renewable energy on Edwards Air Force Base (AFB). The Proposed Action includes construction, operation, and maintenance of the OVSP facility. As part of the Proposed Action, the developer would construct a 230- kilovolt (kV) generation interconnection (Gen-tie) line connecting the OVSP to Southern California Edison's Windhub substation or to the Los Angeles Department of Power and Water (LADWP) Barren Ridge-Rinaldi transmission line. The Gen-tie line would be constructed to support the delivery of the energy generated by the project. For the County of Kern, the Proposed Action is to approve a franchise agreement for routing of the Gen-tie line, and to amend land use plans to provide rights-of-way for the project in select locations along the proposed transmission route.

SUPPLEMENTARY INFORMATION: The OVSP would be sited on 1,500 to 4,000 acres of available, non-excess Air Force land located on Edwards AFB. Alternatives which meet the purpose and need for Proposed Action have been identified and include the No Action Alternative and two additional alternatives. Alternative A includes full-scale project development of a 450 Megawatt solar PV project on up to 4,000 acres of Edwards AFB property located in the northwestern corner of the base. The project would include construction of a Gen-tie line of approximately 10-14 miles in total length. Alternative B represents a reduced-scale alternative for the construction and operation of a 150-200 Megawatt OVSP facility. Under Alternative B, the reduced-scale project would be sited on up to 2,000 acres of Edwards AFB non-excess property within the same project footprint as Alternative A. Alternative B would allow the developer to have greater siting flexibility to avoid environmentally sensitive areas.

Scoping: In order to effectively define the full range of issues to be evaluated in the EIS/EIR, the Air Force and County of Kern are soliciting scoping comments from interested state and federal agencies and interested members of the public. The public scoping period will extend for 30 days following the publication of the Notice of Intent in the Federal Register. The public is invited to participate in scoping meetings that will be held on 12 and 13 June, 2013, in the local communities of Mojave, CA; and Rosamond, CA. Federal, State, and local agencies, along with other stakeholders who may be interested or affected by the project are invited to participate in the scoping process. Notification of the meeting locations, dates, and times will be published and announced in local news media no later than 15 days prior to public scoping meetings.

The scoping process will help identify the full range of reasonable alternatives, potential impacts, and key issues to be emphasized in the environmental analysis. The USAF has identified potential impacts to the following resources: Air Quality, Biological Resources, Cultural and Historical Resources, Water Resources, Land Use, Paleontological Resources, Soils, and Visual Resources. Scoping will assist the Air Force and County of Kern in identifying and addressing other issues of concern.

Oral and written comments presented at the public scoping meetings, as well as written comments received by the Air Force or County of Kern will be considered in the preparation of the Draft EIS/EIR.

FOR FURTHER INFORMATION CONTACT: Gary Hatch, Environmental Public Affairs, Bldg. 1405 Room 400, Edwards Air Force Base, CA 93524; email: 412tw.pae@edwards.af.mil, Phone: 661-277-8707, Fax: (661) 277-2732. Handicap assistance or translation service at public meetings can be made available by providing advance notice to Mr. Hatch at the contact information listed above.

Henry Williams Jr,
Acting Air Force Federal Register Liaison Officer.

[FR Doc. 2013-12751 Filed 5-28-13; 8:45 am]

BILLING CODE 5001-10-P